FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than May 22, 2001.

A. Federal Reserve Bank of Atlanta (Cynthia C. Goodwin, Vice President) 104 Marietta Street, N.W., Atlanta, Georgia 30303-2713:

1. Albert Salem, Jr., Tampa, Florida; to acquire additional voting shares of FCB Financial, Inc., Tampa, Florida, and thereby indirectly acquire additional voting shares of First Commercial Bank of Tampa, Tampa, Florida.

B. Federal Reserve Bank of St. Louis (Randall C. Sumner, Vice President) 411 Locust Street, St. Louis, Missouri 63166-2034:

1. D.R. Harrison, L.L.P., Eldon, Missouri; to acquire additional voting shares of Citizens Bancshares of Eldon, Inc., Eldon, Missouri, and thereby indirectly acquire additional voting shares of Citizens Bank, Eldon, Missouri.

Board of Governors of the Federal Reserve System, May 2, 2001.
Robert deV. Frierson
Associate Secretary of the Board.

[FR Doc. 01-11463 Filed 5-7-01; 8:45 am]

BILLING CODE 6210-01-S